DEPARTMENT OF TRANSPORTATION

National Highway Traffic Safety Administration

[Docket No. NHTSA-99-6270]

Notice of Public Meeting and Internet Forum on the Safety Implications of Driver Distraction When Using In-Vehicle Technologies

AGENCY: National Highway Traffic Safety Administration (NHTSA), DOT.

ACTION: Notice of public meeting and internet forum.

SUMMARY: NHTSA is holding two public events that focus on the potential safety implications associated with driver distraction while using advanced in-vehicle technologies that receive, transmit, or display various types of information. The devices of interest include those that allow drivers to phone, fax, obtain route guidance, view infrared images on a head-up display, and use the Internet and other such devices.

One event is an international Internet Forum which is expected to begin on July 5, 2000, and end on August 11, 2000. The Internet Forum will provide an opportunity for technical experts as well as the general public to download technical papers, ask questions about the papers, relate their experiences regarding the use of in-vehicle devices and their impact on safety in general and driving performance in particular, and participate in exchange of views on related technical issues. Researchers and technical experts are invited to submit papers for inclusion in the Internet Forum that focus on characterizing the current and future safety impact of driver distraction when using in-vehicle technologies, evaluating how device characteristics affect vehicle safety and determine the impact of driver distraction on safe operation of vehicles, identifying and evaluating approaches to minimize driver distraction, and recommending needed research and other safety initiatives. Overviews of ongoing research programs and descriptions of industry practices are also welcome.

NHTSA will also hold a public meeting on Tuesday, July 18, 2000, at which representatives of the public, industry, government, and safety groups are invited to share viewpoints, information, and recommendations regarding strategies to minimize potential adverse effects of driver distraction on safety when using such telematic devices. In particular, NHTSA is interested in hearing about different technologies and devices being proposed for use in vehicles which may have a bearing on safe driving, viewpoints regarding the roles of various entities in promoting best practices in the design of those devices and their use, approaches for evaluating the safety impacts of such systems, and what new research and other safety initiatives are needed. NHTSA will utilize the information from the public meeting and Internet Forum as a basis for discussions at a Technical Workshop of invited researchers and technology developers to be scheduled at a later date. The goal of the Technical Workshop is to generate recommendations for distraction reducing strategies, data needs, and research methodologies.

Persons interested in attending the public meeting might also be interested in attending the National Intelligent Vehicle Initiative Meeting, July 19-20, 2000, which will be held at the Ronald Reagan Building and International Trade Center in Washington, DC. This meeting, sponsored by the U.S. Department of Transportation and administered by SAE International, will promote public/stakeholder awareness of efforts to improve traffic safety using intelligent vehicle technologies, showcase accomplishments, and validate research and development efforts. Further information on this meeting can be found at http://www.its.dot.gov.

DATES: Internet Forum: The Internet Forum will be open for registration on June 23, 2000, while the technical papers will be posted on July 5, 2000. The Forum will remain active until August 11, 2000. Thereafter, the information will remain available through NHTSA's Web site for viewing only.

Public Meeting: NHTSA will hold the public meeting on Tuesday, July 18, 2000, starting at 8:30 a.m. and ending at about 5:00 p.m. or earlier as determined by the number of presenters. A preliminary agenda will be posted on NHTSA's Web site at URL http://www.nhtsa.dot.gov/nhtsa/announcements/meetings/, by June 30, 2000.

ADDRESSES: Internet Forum: The Internet Forum Web site address will be www.driverdistraction.org.

Public Meeting: The public meeting will be held in Room 2230, U.S. Department of Transportation, 400 Seventh Street, S.W., Washington, DC 20590.

Written Comments: If you wish to submit written comments on the issues related to distraction or any topics discussed at the public meeting, those comments should be submitted to Docket No. NHTSA-99-6270 at the following address: Docket Management Facility, U.S. Department of Transportation, Room PL-401, 400 Seventh Street, S.W., Washington, DC 20590. Docket hours for hand delivery are from 9:00 a.m. to 5:00 p.m. on weekdays. Comments can be sent by fax to 202-493-2251 or by electronic submission. The electronic submission procedure is described in the Docket Management section of NHTSA's Web site.

FOR FURTHER INFORMATION CONTACT: For technical questions: Michael Perel, Office of Vehicle Safety Research, NRD-13, 400 Seventh Street, S.W., Washington, DC 20590 (telephone 202-366-5675, fax 202-366-7237, E-mail: mike.perel@nhtsa.dot.gov).

To participate in the public meeting: Rita Gibbons (telephone: 202-366-4862, fax: 202-366-5930, E-mail: rita.gibbons@nhtsa.dot.gov). E-mail or fax is preferred.

SUPPLEMENTARY INFORMATION:

A. Background

The increasing utilization of certain advanced technologies in automobiles brings both the promise of enhanced safety, comfort, security, and convenience as well as concerns about possible impact on safety if they distract driver attention from the driving task. Technologies which transmit, receive, or display information from a motor vehicle include devices such as wireless phones and Internet connections, navigation/route guidance systems, and fax capability collectively known as telematics, as well as night vision systems and others. Some in-vehicle technologies provide direct safety benefits, such as automatic crash notification to emergency medical services and hazard alerts to inform drivers of dangerous traffic and roadway conditions. However, any devices which require drivers to look at displays and/or process information, or which require drivers to perform various tasks in order to operate controls of in-vehicle devices, will also distract them and thus increase their crash risk. Distraction occurs from looking away from the road and from being mentally distracted while attending to traffic. Sometimes the activities required to operate these devices lead to drivers occasionally taking their hands off the steering wheel even for a short while. If the distraction coincides with any of such events as the sudden braking of a lead vehicle, a lead vehicle in an adjacent lane cutting in front, a pedestrian crossing the road, or an unanticipated obstacle or curve in the road simultaneously occurring, the likelihood of a crash increases substantially.

NHTSA has been concerned about the potential safety impact of driver distraction from using advanced, in-vehicle technologies for a number of years. In 1998, NHTSA published available information on the potential effects of wireless phones on traffic safety. In conjunction with the DOT Intelligent Vehicle Initiative, NHTSA completed several research studies that focused on measuring the effect of driver distraction from navigation systems on driving performance. Additional research is currently underway that focuses on drivers' use of wireless phones in naturalistic driving situations. In 1998, NHTSA sent a letter (available in Docket NHTSA-99-5098-01) to vehicle manufacturer executives urging them to personally ensure that the application of advanced technologies does not pose safety risks and to “maintain or establish rigorous internal design protocols to address this possibility.” While the primary focus of that letter was inflatable restraints, the letter pointed out that the “introduction of all new technologies, such as navigation and warning systems, head-up displays, and other intelligent systems” must be accomplished in a way that is safe for drivers. In a February 10, 1999, public statement, the agency said that, “Manufacturers have an obligation to thoroughly and adequately test the safety of any new technology under real world conditions prior to introduction into the marketplace.”

B. Internet Forum on the Safety Implications of Driver Distraction When Using In-Vehicle Technologies

To provide an opportunity for further technical discussions among a wider range of participants than is possible at the public meeting, NHTSA is initiating an international Internet Forum devoted to presentations of research studies and other initiatives related to the safety impact of driver distraction when using in-vehicle devices. It will also provide a forum for discussions of research and related issues by interested parties, technical professionals, and the public, both in the United States and internationally. NHTSA will also post on the Internet information on past and present research on driver distraction.

The key topics to be addressed in the Internet Forum are:

1. How do in-vehicle technologies influence driver distractions? What are the effects of distraction on safety and safe driving performance? How does distraction from in-vehicle technologies differ from and compare to distraction due to other sources?

2. Methodological challenges in measuring the influence of design features of devices, their operation, and their impact on distraction and safe driving performance.

3. Effective government, industry, and consumer actions to minimize distraction.

4. Current and future research necessary to support actions to minimize distraction.

Participation in the Internet Forum: Persons interested in submitting technical papers on current or past research or activities related to the above topics should send an electronic copy to Michael Perel by June 15, 2000. Technical papers should include an abstract, be in English, modeled after conference style proceedings, and should be about 4-5 pages in length (not including graphics). Overviews of ongoing research programs and discussions of industry practices are also welcome. NHTSA will review submissions and notify authors of acceptance within 2 weeks of receipt. Submissions will be reviewed according to the relevance of the paper to the Forum, the clarity of the writing, the validity of experimental methodology used, if any, the degree to which conclusions are supported by data, and the usefulness of the paper to decision makers in the government, practitioners, researchers, and others. Due to the relatively short time for preparation and review, persons interested in submitting material are strongly encouraged to contact Michael Perel in advance of submitting such material. The documents should be in Microsoft WORD, Corel Wordperfect, Adobe pdf, or ASCII text format. If authors have previously published studies and wish to have the studies included on the Internet Forum Web site as a resource for others interested in the topic, they should send the studies in electronic format or submit a Web site link to the material if it is already on line.

Persons not submitting a technical paper, may register to join the Forum to view technical papers, post questions to authors, join discussion groups on related topics, or answer questions about their experience using in-vehicle technologies. The Web site for registering for the conference will be www.driverdistraction.org.

Procedural matters: The Internet Forum will be open for registration on June 23, 2000. Technical papers will be posted on July 5, 2000. The Forum will be active until August 11, 2000. After that date, the material presented will be archived and remain available for viewing on NHTSA's Web site. Also, a summary of the Forum will be prepared and posted on this Web site.

C. Public Meeting

On July 18, 2000, NHTSA will conduct a public meeting, providing a forum for industry, safety, research groups, and the general public to discuss strategies for realizing the benefits of in-vehicle technologies without increasing the risk of crashes due to driver distraction. The objective of this meeting is to share viewpoints and information on the following general topics:

1. What new technologies and features are being planned for use by drivers

2. The role of various entities in promoting best practices in the design and use of these devices

3. How to evaluate the safety impacts of such systems and what are safety-relevant ways to measure driver distraction

4. Ongoing activities to promote safe use of in-vehicle technologies

5. Additional activities and research needed.

1. Written Statements, Presentations, and Comments: The agency has established Docket No. NHTSA-99-6270 as a repository for presentations, statements, and comments on issues related to the safety of in-vehicle technologies. Written or electronic submissions may be made to this docket at any time. For written materials, two copies should be submitted to Docket Management at the address given at the beginning of this document. The materials must not exceed 15 pages in length (49 CFR 553.21). Necessary attachments may be appended to the submissions without regard to the 15-page limit. This limitation is intended to encourage commenters to detail their primary arguments in a concise fashion. Presentations made at the public meeting will also be posted in a separate section of the Internet Forum Web site if the presenter submits an electronic version of the presentation including a separate brief abstract or overview by July 5, 2000. Any comments made at the public meeting and a summary of the discussions that take place will be posted on the Internet after the meeting. The electronic submissions for the Internet Forum should be sent by E-mail (5 mb max), floppy disk, or CD ROM to Michael Perel at the address given above.

If a commenter wishes to submit certain information under a claim of confidentiality, three copies of the complete submission, including purportedly confidential business information, should be submitted to the Chief Counsel, NHTSA, at 400 Seventh Street, SW., Washington, DC 20590. Additionally, two copies of the above document from which the purportedly confidential information has been deleted should be submitted to Docket Management. A request for confidentiality should be accompanied by a cover letter setting forth the information specified in the agency's confidential business information regulation, 49 CFR Part 512.

2. Meeting Participation: This is a public meeting, and attendance is open to all members of the public. You may attend as a participant or an observer. If you plan to attend the meeting, contact Rita Gibbons at the address, telephone, fax, or the E-mail listed above before July 5, 2000. E-mail or Fax is preferred. If you wish to present a prepared oral statement during the meeting, please send a copy of your statement to Mr. Perel by July 5, 2000.

3. Procedural Matters: A written transcript of the meeting will be made. Speakers will have a maximum of 15-20 minutes. Presenters may be questioned by a panel of government officials. Time permitting, audience members may submit written questions for the panel to ask the presenters.

Issued on: May 25, 2000.
Raymond P. Owings,
Associate Administrator for Research and Development.

[FR Doc. 00-13535 Filed 5-30-00; 8:45 am]

BILLING CODE 4910-59-P